DEPARTMENT OF LABOR

Employment and Training Administration

[TA-W-40,063]

Laclede Steel Company, St. Louis, MO; Notice of Termination of Investigation

Pursuant to Section 221 of the Trade Act of 1974, an investigation was initiated on September 24, 2001 in response to a worker petition which was filed on the same date on behalf of workers at Laclede Steel Company, St. Louis, Missouri. The subject plant is located in Alton, Illinois.

The petitioning group of workers is subject to an ongoing investigation for which a determination has not yet been issued (TA-W-40,032). Consequently, further investigation in this case would serve no purpose, and the investigation has been terminated.

Signed in Washington, DC this 25th day of February, 2002.
Edward A. Tomchick,
Director, Division of Trade Adjustment Assistance.

[FR Doc. 02-5594 Filed 3-7-02; 8:45 am]

BILLING CODE 4510-30-M